DEPARTMENT OF TRANSPORTATION

Federal Aviation Administration

14 CFR Part 39

[Docket No. 2003-SW-32-AD; Amendment 39-13652; AD 2004-11-06]

RIN 2120-AA64

Airworthiness Directives; Agusta S.p.A. Model A109E Helicopters

AGENCY: Federal Aviation Administration, DOT.

ACTION: Final rule.

SUMMARY: This amendment adopts a new airworthiness directive (AD) for the specified Agusta S.p.A. (Agusta) model helicopters that requires disabling certain windshield wipers and thereafter modifying the electrical system of the windshield wipers by installing a new resistor and condenser, eliminating incompatibility problems with the relays, and replacing the timed relay for certain windshield wiper kits. This amendment is prompted by testing that revealed overheating of the electrical resistor on the electrical system of the windshield wipers due to a system overload because of a partial incompatibility of new timed relays with the configuration of the windshield wiper electrical system. The actions specified by this AD are intended to prevent the incompatibility of certain relays with the windshield wiper electrical system, overheating of the resistor due to system overload, and an electrical fire.

DATES: Effective July 9, 2004.

The incorporation by reference of certain publications listed in the regulations is approved by the Director of the Federal Register as of July 9, 2004.

ADDRESSES: The service information referenced in this AD may be obtained from Agusta, 21017 Cascina Costa di Samarate (VA) Italy, Via Giovanni Agusta 520, telephone 39 (0331) 229111, fax 39 (0331) 229605-222595. This information may be examined at the FAA, Office of the Regional Counsel, Southwest Region, 2601 Meacham Blvd., Room 663, Fort Worth, Texas; or at the National Archives and Records Administration (NARA). For information on the availability of this material at NARA, call 202-741-6030, or go to: http://www.archives.gov/federal_register/code_of_federal_regulations/ibr_locations.html.

FOR FURTHER INFORMATION CONTACT: Carroll Wright, Aviation Safety Engineer, FAA, Rotorcraft Directorate, Regulations and Guidance Group, Fort Worth, Texas 76193-0111, telephone (817) 222-5120, fax (817) 222-5961.

SUPPLEMENTARY INFORMATION: A proposal to amend 14 CFR part 39 to include an AD for the specified model helicopters was published in the Federal Register on January 8, 2004 (69 FR 1274). That action proposed to require disabling certain windshield wipers and thereafter modifying the electrical system of the windshield wipers by installing a new resistor and condenser, eliminating incompatibility problems with the relays, and replacing the timed relay for certain windshield wiper kits.

Ente Nazionale per l'Aviazione Civile (ENAC), the airworthiness authority for Italy, notified the FAA that an unsafe condition may exist on Agusta Model 109E helicopters. ENAC advises modifying the electrical installation of some windshield wiper kits as stated in the manufacturer's service information.

Agusta has issued Alert Bollettino Tecnico No. 109EP-27, Revision A, dated February 7, 2003 (ABT), which specifies modifying the electrical installation of windshield wiper kit, part number (P/N) 109-0741-65, by installing kit, P/N 109-0823-13, to replace the existing resistor and condenser to eliminate functional malfunction when timed relays, P/N TDH-8070-1001P or T412-2006, are installed. During a ground functional test, overheating of the electrical resistor was found in the windshield wiper electrical system due to a system overload. An investigation revealed that the source of the overheating was a functional malfunction caused by a partial incompatibility of new timed relays with the actual configuration of the windshield wiper electrical system. ENAC classified the ABT as mandatory and issued AD No. 2003-032, dated February 10, 2003, to ensure the continued airworthiness of these helicopters in Italy.

Interested persons have been afforded an opportunity to participate in the making of this amendment. No comments were received on the proposal or the FAA's determination of the cost to the public. With the exception of changing the ABT No. from 109SP-27 as shown in the “Discussion” section of the notice to the correct No. 109EP-27 in the “Supplementary” section of the final rule, the FAA has determined that air safety and the public interest require the adoption of the rule as proposed.

The FAA estimates that this AD will affect 18 helicopters of U.S. registry. It will take approximately 3 work hours to disable the windshield wipers and modify the electrical system of the windshield wipers and 4 work hours per helicopter if the timed relays must be replaced by modifying the electrical system of the windshield wipers. The average labor rate is $65 per work hour. Required parts will cost approximately $367 per helicopter. Based on these figures, we estimate the total cost impact of the AD on U.S. operators is $14,796, assuming the relays are replaced on the entire fleet. However, the manufacturer states in its ABT that it will reimburse owners for 3 or 4 work hours at a fixed rate of $40 per work hour and will provide the parts for free. Assuming a warranty credit of 4 work hours ($2,880) and free parts ($6,606), the estimated total cost impact of this AD is $5,310.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2004-11-06 Agusta S.p.A: Amendment 39-13652. Docket No. 2003-SW-32-AD.

Applicability: Model A109E helicopters, certificated in any category.

Compliance: Required as indicated, unless accomplished previously.

To prevent the incompatibility of certain relays with the windshield wiper electrical system, overheating of the resistor due to system overload, and an electrical fire, accomplish the following:

(a) For helicopters, serial number (S/N) 11502 through 11504, and 11122 through 11130, except 11123, 11127, and 11129:

(1) Within 5 hours time-in-service, do the following:

(i) Disable the windshield wipers by following the Compliance Instructions, Part I, paragraphs 2.1 through 2.5, of Agusta Alert Bollettino Tecnico No. 109EP-27, Revision A, dated February 7, 2003 (ABT).

(ii) Install a placard stating that the windshield wipers are inoperative by following the Compliance Instructions, Part I, paragraph 2.6, of the ABT.

(2) Within 6 months, modify the electrical system of the windshield wipers using the Compliance Instructions, Part II, paragraphs 1. through 15., of the ABT, and remove the placard that was installed as required by paragraph (a)(1)(ii) of this AD.

(b) For helicopters, S/Ns 11151, 11501, and 11001 through 11133, except 11122, 11124 through 11128, and 11130, with timed relay, part number (P/N) T412-DJ1001-C installed, on or before June 6, 2005, or when you replace a timed relay, P/N T412-DJ1001-C, with either relay, P/N TDH-8070-1001P or P/N T412-2006, whichever occurs first:

(1) If windshield wiper kit, P/N 109-0811-44-105 or -106 is installed, modify the windshield wiper electrical system and replace the timed relay, P/N T412-DJ1001-C, with a timed relay, P/N TDH-8070-1001P or P/N T412-2006, by following the Compliance Instructions, Part III, paragraphs 1. through 1.16, of the ABT.

(2) If windshield wiper kit, P/N 109-0811-44-101 or -102 is installed, modify the windshield wiper electrical system and replace the timed relay, P/N T412-DJ1001-C, with a timed relay, P/N TDH-8070-1001P or P/N T412-2006, by following the Compliance Instructions, Part III, paragraphs 2. through 2.19, of the ABT.

(c) To request a different method of compliance or a different compliance time for this AD, follow the procedures in 14 CFR 39.19. Contact the Safety Management Group, FAA, for information about previously approved alternative methods of compliance.

(d) Modifying the windshield wiper electrical system shall be done following the Agusta Alert Bollettino Tecnico No. 109EP-27, Revision A, dated February 7, 2003. The Director of the Federal Register approved this incorporation by reference in accordance with 5 U.S.C. 552(a) and 1 CFR part 51. Copies may be obtained from Agusta, 21017 Cascina Costa di Samarate (VA) Italy, Via Giovanni Agusta 520, telephone 39 (0331) 229111, fax 39 (0331) 229605-222595. Copies may be inspected at the FAA, Office of the Regional Counsel, Southwest Region, 2601 Meacham Blvd., Room 663, Fort Worth, Texas; or at the National Archives and Records Administration (NARA). For information on the availability of this material at NARA, call 202-741-6030, or go to: http://www.archives.gov/federal_register/code_of_federal_regulations/ibr_locations.html.

(e) This amendment becomes effective on July 9, 2004.

Note: The subject of this AD is addressed in Ente Nazionale per l'Aviazione Civile (Italy), AD No. 2003-032, dated February 10, 2003.

Issued in Fort Worth, Texas, on May 21, 2004.
David A. Downey,
Manager, Rotorcraft Directorate, Aircraft Certification Service.

[FR Doc. 04-12440 Filed 6-3-04; 8:45 am]

BILLING CODE 4910-13-P